DEPARTMENT OF COMMERCE

National Oceanic and Atmospheric Administration

RIN 0648-XF448

Record of Decision for the Final Portland Harbor Programmatic Environmental Impact Statement and Restoration Plan

AGENCY: National Marine Fisheries Service (NMFS), National Oceanic and Atmospheric Administration (NOAA), Commerce.

ACTION: Notice of availability of a Record of Decision.

SUMMARY: NOAA announces the availability of the Record of Decision (ROD) for the Final Portland Harbor Programmatic Environmental Impact Statement and Restoration Plan (PEIS/RP). The NOAA Restoration Center Chief and the Assessment and Restoration Division Chief signed the ROD on May 29, 2018, which constitutes the agency's final decision.

ADDRESSES: Christopher Doley, Chief, Restoration Center, NOAA National Marine Fisheries Service, 1315 East-West Highway, Silver Spring, MD 20910; Tony Penn, Chief, Assessment and Restoration Division, NOAA Ocean Service, 1305 East-West Highway, Silver Spring, MD 20910.

FOR FURTHER INFORMATION CONTACT: Megan Callahan Grant at (503) 231-2213 or email at megan.callahan-grant@noaa.gov.

SUPPLEMENTARY INFORMATION: NOAA, on behalf of the Portland Harbor Natural Resource Trustee Council, prepared the Final Portland Harbor PEIS/RP. The PEIS/RP was prepared under the authority of Comprehensive Environmental Response, Compensation, and Liability Act (CERCLA) of 1980 and was also developed to comply with the Federal agency decision-making requirements of the National Environmental Policy Act of 1969 (NEPA) and NOAA's environmental review procedures (NOAA Administrative Order 216-6, as preserved by NAO 216-6A). The document was designed to solicit public opinion on a proposed restoration approach for the Portland Harbor natural resource damage assessment (NRDA). The ROD documents the Trustee Council's decision to select Integrated Habitat Restoration Planning as the preferred alternative under NEPA because this alternative is most suited to fulfill the goal of the NRDA to restore injured natural resources and services and it meets the purpose and need for restoration planning. This alternative is specifically designed to improve habitats that function in support of multiple fish and wildlife species, as well as the food base for these species. This approach is expected to deliver broad ecosystem benefits concentrated within and around the area where the injuries to natural resources and natural resources services have taken place. This alternative would consist of habitat restoration actions implemented within geographic priority areas within and around the Portland Harbor Superfund Study Area. The scale of restoration activity that will be implemented by the Trustee Council under the PEIS/RP will depend upon the resolution of natural resource damage claims with the parties responsible for releases of hazardous substances and oil. Under CERCLA, settlements received by the Trustee Council, either through negotiated or adjudicated processes, must be used to restore, rehabilitate, replace, and/or acquire the equivalent of those natural resources that have been injured. The Final PEIS/RP will guide future Trustee Council decision-making regarding the expenditure of settlements and the implementation of restoration activities.

NOAA is not soliciting comments on the PEIS/RP but will consider any comments submitted that would assist us in preparing future NEPA documents. An electronic copy of the PEIS/RP is available at: https://www.fws.gov/oregonfwo/Contaminants/PortlandHarbor/Documents/201706_FINAL_PEIS.pdf. Electronic correspondence regarding it can be submitted to megan.callahan-grant@noaa.gov. Otherwise, please submit any written comments via U.S. mail to the responsible official named in the ADDRESSES section.

Dated: May 30, 2018.
Carrie D. Selberg,
Deputy Director, Office of Habitat Conservation, National Marine Fisheries Service.

[FR Doc. 2018-11906 Filed 6-1-18; 8:45 am]

BILLING CODE 3510-22-P